DEPARTMENT OF COMMERCE

International Trade Administration

[A-570-601]

Tapered Roller Bearings and Parts Thereof, Finished and Unfinished, from the People's Republic of China; Extension of Time Limit for the Final Results of the 2007-2008 Administrative Review of the Antidumping Duty Order

AGENCY: Import Administration, International Trade Administration, Department of Commerce.

FOR FURTHER INFORMATION CONTACT: Frances Veith or Brendan Quinn, AD/CVD Operations, Import Administration, International Trade Administration, U.S. Department of Commerce, 14th Street and Constitution Avenue, NW, Washington, DC 20230, telephone: (202) 482-4295 or (202) 482-5848, respectively.

SUPPLEMENTARY INFORMATION:

Background

On July 30, 2008, the Department of Commerce (“Department”) initiated the administrative review of the antidumping duty order on tapered roller bearings and parts thereof, finished or unfinished (“TRBs”), from the People's Republic of China (“PRC”) for the period June 1, 2007 through May 31, 2008. See Initiation of Antidumping and Countervailing Duty Administrative Reviews, Request for Revocation in Part, and Deferral of Administrative Review, 73 FR 44220 (July 30, 2008). On July 8, 2009, the Department published its preliminary results on TRBs from the PRC. See Tapered Roller Bearings and Parts Thereof, Finished or Unfinished, from the People's Republic of China: Preliminary Results of the 2007 2008 Administrative Review of the Antidumping Duty Order, 74 FR 32539 (July 8, 2009). The final results of this administrative review are currently due no later than November 5, 2009.

Extension of Time Limit for Final Results

Section 751(a)(3)(A) of the Tariff Act of 1930, as amended (“the Act”), requires the Department to issue the final results in an administrative review within 120 days after the date on which the preliminary results are published. However, if it is not practicable to complete the review within this time period, section 751(a)(3)(A) of the Act allows the Department to extend the time period to a maximum of 180 days.

We determine that it is not practicable to complete the final results of this review within the original time limit because the Department requires additional time to analyze issues raised in parties' briefs and rebuttal briefs which were also discussed in meetings with counsel for the parties, such as, surrogate values and third-country processing. Therefore, given the complexity of issues in this case, we are extending the time limit for completion of the final results by 30 days.

An extension of 30 days from the current deadline of November 5, 2009, would result in a new deadline of December 5, 2009. However, since December 5, 2009, falls on a Saturday, a non-business day, the final results will now be due no later than December 7, 2009, the next business day.

This notice is published pursuant to sections 751(a) and 777(i) of the Act.

Dated: October 8, 2009.
John M. Andersen,
Acting Deputy Assistant Secretary for Antidumping and Countervailing Duty Operations.

[FR Doc. E9-24833 Filed 10-14-09; 8:45 am]

BILLING CODE 3510-DS-S